DEPARTMENT OF HOMELAND SECURITY

Coast Guard

33 CFR Part 117

[Docket No. USCG-2014-0969]

Drawbridge Operation Regulation; Long Island, New York Inland Waterway From East Rockaway Inlet to Shinnecock Canal, Nassau, NY

AGENCY: Coast Guard, DHS.

ACTION: Notice of deviation from drawbridge regulation.

SUMMARY: The Coast Guard has issued a temporary deviation from the operating schedule that governs the operation of the Meadowbrook State Parkway Bridge, across Sloop Channel, mile 12.8, at Nassau, New York. This deviation is necessary to replace electrical components at the bridge. This deviation will allow the bridge to remain in the closed position for three partial days to facilitate scheduled bridge maintenance, the replacement of the electrical umbilical cords.

DATES: This deviation is effective between 8 a.m. and 11 a.m. from November 17, 2014 through November 21, 2014.

ADDRESSES: The docket for this deviation, [USCG-2014-0969] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC, 20590, between 9 a.m. and 5 p.m., Monday through Friday, except Federal holidays.

FOR FURTHER INFORMATION CONTACT: If you have questions on this temporary deviation, call or email Ms. Judy Leung-Yee, Project Officer, First Coast Guard District, judy.k.leung-yee@uscg.mil, or (212) 514-4330. If you have questions on viewing the docket, call Cheryl Collins, Program Manager, Docket Operations, telephone (202) 366-9826.

SUPPLEMENTARY INFORMATION: The Meadowbrook State Parkway Bridge has a vertical clearance of 22 feet at mean high water, and 25 feet at mean low water in the closed position. The existing drawbridge operating regulations are found at 33 CFR 117.799(h). Sloop Channel has commercial and recreational vessel traffic of various sizes.

The bridge owner, New York State Department of Transportation, requested a three partial day bridge closure to facilitate the replacement of the electrical umbilical cords at the bridge.

Under this temporary deviation, the Meadowbrook State Parkway Bridge may remain in the closed position between 8 a.m. and 11 a.m. from November 17, 2014, through November 19, 2014. In the event of inclement weather, the rain dates will be from November 20, 2014 through November 21, 2014.

Vessels that can pass under the bridge in the closed position may do so at all times. There are no alternate routes. The bridge can be opened in the event of an emergency situation.

In accordance with 33 CFR 117.35(e), the drawbridge must return to its regular operating schedule immediately at the end of the effective period of this temporary deviation. This deviation from the operating regulations is authorized under 33 CFR 117.35.

Dated: October 31, 2014.
C.J. Bisignano,
Supervisory Bridge Management Specialist, First Coast Guard District.

[FR Doc. 2014-27011 Filed 11-13-14; 8:45 am]

BILLING CODE 9110-04-P